UNIFIED CARRIER REGISTRATION PLAN

Sunshine Act Meetings

TIME AND DATE: May 15, 2024, 10:30 a.m. to 1:30 p.m., Eastern time.

PLACE: This meeting will take place at the National Press Building 529 14th Street NW, Suite 1280, Washington, DC 20045. This meeting will also be accessible via conference call and via Zoom Meeting and Screenshare. Any interested person may call (i) 1-929-205-6099 (US Toll) or 1-669-900-6833 (US Toll), Meeting ID: 948 4051 5537, to listen and participate in this meeting. The website to participate via Zoom Meeting and Screenshare is https://kellen.zoom.us/meeting/register/tJAlc-mtrz4vGdONsaXbTwLuoDAYqBiSoE42.

STATUS: This meeting will be open to the public.

MATTERS TO BE CONSIDERED: The Unified Carrier Registration Plan Industry Advisory Subcommittee (the “Subcommittee”) will conduct a meeting to continue its work in developing and implementing the Unified Carrier Registration Plan and Agreement. The subject matter of this meeting will include:

Proposed Agenda

I. Call to Order—UCR Industry Advisory Subcommittee Chair

The Industry Advisory Subcommittee Chair will welcome attendees, call the meeting to order, call roll for the Industry Advisory Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda- UCR Industry Advisory Subcommittee Chair

For Discussion and Possible Subcommittee Action

The proposed Agenda will be reviewed, and the Subcommittee will consider adoption.

Ground Rules

➢ Subcommittee action only to be taken in designated areas on agenda.

IV. Review and Approval of Minutes From the February 28, 2024 Meeting—UCR Industry Advisory Subcommittee Chair

For Discussion and Possible Subcommittee Action

Draft minutes from the February 28, 2024 Industry Advisory Subcommittee meeting via teleconference will be reviewed. The UCR Industry Advisory Subcommittee will consider action to approve.

V. 2024 Priorities and Project Development for the Subcommittee—UCR Industry Advisory Subcommittee Chair

The UCR Industry Advisory Subcommittee Chair will provide an update on current and planned initiatives, to include the development of a video series intended to increase participation in the UCR focused on brokers, motor carriers, and bus operators.

VI. Industry Update on Compliance—UCR Industry Advisory Subcommittee Chair

The UCR Industry Advisory Subcommittee Chair UCR will provide an update on compliance numbers for all the industry stakeholders. Demonstrating current numbers and how those compare to the last few years, current compliance strategies being utilized, and the goal for 2024.

VII. Industry Update on Truck Parking—UCR Industry Advisory Subcommittee Chair

The UCR Industry Advisory Subcommittee Chair will provide an information update on trucking parking initiatives.

VIII. Other Items—UCR Industry Advisory Subcommittee Chair

The UCR Industry Advisory Subcommittee Chair will call for any other items Subcommittee members would like to discuss.

IX. Adjournment—UCR Industry Advisory Subcommittee Chair

The UCR Industry Advisory Subcommittee Chair will adjourn the meeting.

The agenda will be available no later than 5:00 p.m. Eastern time, May 8, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-10360 Filed 5-8-24; 11:15 am]

BILLING CODE 4910-YL-P